Memorandum of August 12, 2022

Delegation of Authority Under the Trans-Sahara Counterterrorism Partnership Program Act of 2022

Memorandum for the Secretary of State

By the authority vested in me as President by the Constitution and the laws of the United States of America, including section 301 of title 3, United States Code, I hereby delegate to the Secretary of State the functions and authorities vested in the President by the following provisions of the Trans-Sahara Counterterrorism Partnership Program Act of 2022 (Division AA of Public Law 117-103):

(a) section 104(b), with respect to the Trans-Sahara Counterterrorism Partnership Program;

(b) section 104(d), with respect to the comprehensive 5-year strategies for the Sahel-Maghreb and the Trans-Sahara Counterterrorism Partnership Program counterterrorism efforts; and

(c) section 104(f), with respect to submitting the reports.

You are authorized and directed to publish this memorandum in the Federal Register.

THE WHITE HOUSE,

Washington, August 12, 2022

[FR Doc. 2022-18117

Filed 8-18-22; 11:15 am]

Billing code 4710-10-P